DEPARTMENT OF HOUSING AND URBAN DEVELOPMENT

[Docket No. FR-5188-N-03]

Notice of Proposed Information; Collection: Comment Request; Section 4 Loan Guarantee Recovery Fund

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: May 5, 2008.

ADDRESSES: Interested persons are invited to submit comments regarding this proposal. Comments should refer to the proposal by name and/or OMB Control Number and should be sent to: Pamela M. Williams, Reports Liaison Officer, Department of Housing and Urban Development, 451 Seventh Street, SW., Room 7234, Washington, DC 20410.

FOR FURTHER INFORMATION CONTACT: Thann Young, Office of Rural Housing and Economic Development, Office of Community Planning and Development, Department of Housing and Urban Development, 451 7th Street, SW., Room #7137 Washington, DC 20410; telephone number (202) 708-2290 (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Section 4 Loan Guarantee Recovery Fund.

OMB Control Number, if applicable: 2506-0159.

Description of the Need for the Information and Proposed Use: This request for OMB approval seeks clearance for information collections related to HUD's Loan Guarantee Recovery Fund, a rule that implements section 4 of the “Church Arson Prevention Act of 1996” (Pub. L. 104-155, approved July 3, 1996) at CFR part 573.

HUD has responsibility under the Act and implementing regulations to assist eligible nonprofit organizations in rebuilding their properties, which were damaged by acts of arson or terrorism by guaranteeing loans that these organizations receive from financial institutions. With financial assistance, eligible nonprofit organizations may use guaranteed loan funds for a wide range of activities, including (1) the acquisition of real or personal property; (2) the rehabilitation of real property; (3) the construction, reconstruction or replacement of real property improvement; (4) site preparation; (5) architectural, engineering, and security expenses; and (6) refinancing existing indebtedness. With the information provided, HUD must ensure it performs properly with respect to determinations regarding the eligibility of financial institutions and nonprofit organizations, the eligibility of the activities to be carried out, the certifications required by the law and the implementing regulations. The Department must also ensure from the information provided that entities applying for and receiving loan guarantee assistance understand the requirements and the responsibilities with respect to the Act and the regulations.

Agency Form Numbers (if applicable): HUD-40076-LGA.

Members of Affected Public: Certain nonprofit organizations whose properties have been damaged by an act or acts of arson or terrorism.

Estimation of the total number of hours needed to prepare the information collection including number of respondents, frequency of response, and hours of response:

| Number of respondents | Response frequency | Total responses | Hours per response | Annual burden | Hourly rate | Annual costs
Non-Profit Applications | 1 | 1 | 1 | 40 | 40 | $25 | $1,000
HUD-40076-LGA | 12 | 1 | 12 | .75 | 8 |  |
Financial Institutions (FI) Applications | 1 | 1 | 1 | 32 | 32 | 25 | 800
FI Reports | 16 | 12 | 192 | 2 | 384 | 25 | 9,600
FI Recordkeeping | 16 | 12 | 192 | 2 | 384 | 25 | 9,600
Totals | 45 |  | 398 |  | 848 |  | $21,000

Frequency of Submission: Monthly and Annually.

Status of the proposed information collection:

Status of the proposed information collection: Extension of a currently approved collection.

Authority: Section 3506 of the Paperwork Reduction Act of 1995, 44 U.S.C. Chapter 35, as amended.

Dated: February 27, 2008.
Nelson R. Bregón,
General Deputy Assistant Secretary for Community Planning and Development.

[FR Doc. E8-4179 Filed 3-4-08; 8:45 am]

BILLING CODE 4210-67-P